DEPARTMENT OF THE INTERIOR

Bureau of Land Management

[LLNM006200.L99110000.EK0000; OMB Control Number 1004-0179]

Renewal of Approved Information Collection

AGENCY: Bureau of Land Management.

ACTION: 30-day notice and request for comments.

SUMMARY: The Bureau of Land Management (BLM) has submitted a request to the Office of Management and Budget (OMB) to continue the collection of information that is necessary to balance sales of helium to Federal agencies with purchases of helium from the Secretary of the Interior. The OMB has assigned control number 1004-0179 to this collection.

DATES: The OMB is required to respond to this information collection request within 60 days but may respond after 30 days. For maximum consideration written comments should be received on or before April 3, 2014.

ADDRESSES: Submit comments directly to the Desk Officer for the Department of the Interior (OMB #1004-0179), Office of Management and Budget, Office of Information and Regulatory Affairs, fax 202-395-5806, or by electronic mail at oira_submission@omb.eop.gov. Please provide a copy of your comments to the BLM.

Mail: U.S. Department of the Interior, Bureau of Land Management, 1849 C Street NW., Room 2134LM, Attention: Jean Sonneman, Washington, DC 20240.

Fax: To Jean Sonneman at 202-245-0050.

Electronic mail: Jean_Sonneman@blm.gov.

Please indicate “Attn: 1004-0179” regardless of the form of your comments.

FOR FURTHER INFORMATION CONTACT: You may contact Libby Conner, at 806-356-1027. Persons who use a telecommunication device for the deaf (TDD) may call the Federal Information Relay Service (FIRS) on 1-800-877-8339, to leave a message for Ms. Conner. You may also review the information collection request online at http://www.reginfo.gov/public/do/PRAMain.

SUPPLEMENTARY INFORMATION: The Paperwork Reduction Act (44 U.S.C. 3501-3521) and OMB regulations at 5 CFR 1320 provide that an agency may not conduct or sponsor a collection of information unless it displays a currently valid OMB control number. Until the OMB approves a collection of information, you are not obligated to respond. In order to obtain and renew an OMB control number, Federal agencies are required to seek public comment on information collection and recordkeeping activities. (see 5 CFR 1320.8 (d) and 1320.12(a)).

As required in 5 CFR 1320.8(d), the BLM published a 60-day notice in the Federal Register on November 18, 2013 (78 FR 69125) and the comment period closed on January 17, 2014. The BLM received no comments.

The BLM requests comments on the following subjects:

1. Whether the collection of information is necessary for the proper functioning of the BLM, including whether the information will have practical utility;

2. The accuracy of the BLM's estimate of the burden of collecting the information, including the validity of the methodology and assumptions used;

3. The quality, utility, and clarity of the information to be collected; and

4. How to minimize the information collection burden on those who are to respond, including the use of appropriate automated, electronic, mechanical, or other forms of information technology.

Please send comments to the addresses listed under ADDRESSES. Please refer to OMB Control Number 1004-0179 in your correspondence. Before including your address, phone number, email address, or other personal identifying information in your comment, you should be aware that your entire comment—including your personal identifying information—may be made publicly available at any time. While you can ask us in your comment to withhold your personal identifying information from public review, we cannot guarantee that we will be able to do so.

The following information is provided for the information collection:

Title: Helium Contracts (43 CFR part 3195).

OMB Number: 1004-0179.

Type of Review: Extension of a currently approved information collection.

Summary: This collection of information pertains to the Helium Privatization Act of 1996, which provides that only authorized contractors may sell helium to Federal agencies. The BLM uses this information to verify that authorized contractors are in compliance with the Helium Privatization Act. In order to become an authorized contractor, a helium supplier must enter into an In-Kind Crude Helium Sales Contract to purchase from the Secretary of Interior amounts of crude helium that are equivalent to amounts the supplier sells to agencies of the Federal Government. 50 U.S.C. 167d. The BLM uses the information for reporting and record keeping. Responses are required to obtain a benefit.

Frequency of Collection: Quarterly.

Estimated Annual Burden Hours: 104.

Estimated Annual Responses: 32.

Estimated Annual Non-hour Burden Cost: None.

The itemized burdens of this collection are shown below:

A. Type of response | B. Number of responses | C. Hours per response | D. Total hours (column B × column C)
Sales reports | 32 | 3.25 | 104

Jean Sonneman,
Information Collection Clearance Officer, Bureau of Land Management.

[FR Doc. 2014-04711 Filed 3-3-14; 8:45 am]

BILLING CODE 4310-84-P